DEPARTMENT OF DEFENSE

Office of the Secretary

Office of Economic Adjustment; Announcement of Federal Funding Opportunity (FFO)

AGENCY: Office of Economic Adjustment (OEA), Department of Defense (DoD).

ACTION: Federal funding opportunity announcement.

SUMMARY: This notice announces an opportunity to request funding from the Office of Economic Adjustment (OEA), a Department of Defense (DoD) field activity, for community planning assistance to help prevent the siting of energy projects from adversely affecting DoD's test, training, and military operations. Commercial development of energy projects may affect unique DoD activities and military readiness, especially when located near installations, ranges, or on lands beneath designated military training routes or special use airspace. State, tribal, and local governments can support effective collaboration, early engagement and dialogue between DoD and energy developers to ensure proposed energy projects may proceed without compromising the DoD missions. This notice includes proposal submission requirements and instructions, eligibility requirements, and selection criteria that will be used to evaluate proposals from eligible respondents. OEA grants to a state or local government may result from any proposal submitted under this notice, subject to the availability of appropriations.

SUPPLEMENTARY INFORMATION: a. Federal Awarding Agency: Office of Economic Adjustment, Department of Defense.

b. Funding Opportunity Title: Community Adjustment Planning Assistance in Response to Siting of Energy Projects to Support Department of Defense Mission Interests.

c. Announcement Type: Initial Federal Funding Opportunity.

d. Catalog Of Federal Domestic Assistance (CFDA) Number & Title: 12.610, Community Economic Adjustment Assistance for Compatible Use and Joint Land Use Studies.

e. Key Dates: Proposals will be considered on a continuing basis. OEA will evaluate all proposal documents and requests, and provide a response to the respondent within 30 business days of OEA's receipt of a final and complete proposal.

I. Period of Funding Opportunity

Proposals will be considered on a continuing basis, subject to the availability of appropriated funds, commencing on the date of publication of this notice.

II. Funding Opportunity

a. Program Description

OEA is a DoD Field Activity authorized under 10 U.S.C 2391 to provide assistance to state or local governments, and instrumentalities of state and local governments, including regional governmental organizations, to plan and carry out community adjustments required by the encroachment of a civilian community on a military installation if the Secretary determines that the encroachment of the civilian community is likely to impair the continued operational utility of the installation, including test and training ranges and associated military airspace.

OEA's Compatible Use and Joint Land Use Studies Program provides technical and financial assistance to state and local governments to plan and carry out community adjustments required to mitigate or prevent incompatible civilian development and activities that are likely to impair the continued operational utility of a DoD installation. The objectives of OEA's Compatible Use and Joint Land Use Studies Program are to assist states and local governments to plan and carry out community adjustments to promote compatible civilian development and activities in support of continued operational utility of the installation; preserve and protect the public health, safety, and general welfare; protect and preserve military readiness and defense capability while supporting continued economic development; and enhance civilian and military communications and collaboration.

OEA is accepting proposals for grant assistance to support communities, regions, and states to assist in the siting of energy project investments so they do not impair the continued operational utility of a DoD installation. Proposals will be evaluated against the eligibility criteria in section II.c. and the selection criteria in section II.e. of this notice by OEA staff in coordination with representatives from the DoD Siting Clearinghouse, Military Departments, Federal Aviation Administration, and Department of Energy, as well as other Federal agencies as invited by OEA. OEA will notify the respondent within thirty (30) days of receipt of a proposal whether their proposal was successful. The successful respondent will then be invited to submit an application through OEA's eGrants system. Additional details about the review and selection process are provided in section II.e. of the FFO.

The final amount of each award will be determined by OEA based upon a review of a final grant application, and will be subject to the availability of appropriated funds.

b. Federal Award Information

Awards under this FFO will be issued in the form of a grant agreement. In accordance with 31 U.S.C. 6304 a grant is defined as the legal instrument reflecting a relationship between the United States Government and a State, a local government, or other recipient when:

(1) The principal purpose of the relationship is to transfer a thing of value to the State or local government or other recipient to carry out a public purpose of support or stimulation authorized by a law of the United States instead of acquiring (by purchase, lease, or barter) property or services for the direct benefit or use of the United States Government; and

(2) Substantial involvement is not expected between the executive agency and the State, local government, or other recipient when carrying out the activity contemplated in the agreement.

c. Eligibility Information

Awards resulting from this FFO are based on eligibility and the responsiveness of proposals to the need to support effective collaboration, early engagement and dialogue between DoD and energy developers to ensure proposed energy projects may proceed without compromising DoD's military test, training, and military operations.

i. Eligible Respondents

Eligible respondents are states, counties, municipalities, other political subdivisions of a state; special purpose units of a state or local government; other instrumentalities of a state or local government; and tribal nations. If multiple proposals are received for the same affected region, or installation, OEA will ask respondents to coordinate and submit only one proposal.

Respondents are encouraged to propose locations where siting of energy projects, including electrical transmission lines, could adversely impact DoD test, training, and military operations.

A proposal must respond to the need to ensure proposed energy projects may proceed without compromising DoD's test, training, and military operations, to include radar interference from wind turbines; low-level flight obstructions associated with tall structures such as solar power towers and wind turbine projects; electromagnetic interference from high voltage electrical transmission lines; and glint and glare impacts to flight operations associated with solar photovoltaic arrays or power tower projects near military airfields.

Respondents are urged to review the Program Information stated for CFDA Number 12.610, Community Economic Adjustment Assistance for Compatible Use and Joint Land Use Studies on http://www.cfda.gov, prior to preparing and/or submitting a proposal.

ii. Cost Sharing or Matching

Cost sharing is required. A minimum of ten percent (10%) of the project's total proposed funding is to be comprised of non-Federal sources.

iii. Other Eligibility Information

Funding will be awarded to only one governmental entity on behalf of a region, therefore applications on the behalf of a multi-jurisdictional region should demonstrate a significant level of cooperation in their proposal.

Respondents are encouraged to identify state, tribal, county or local planning and permitting processes that could facilitate siting of projects to prevent adverse impacts.

Respondents are encouraged to submit proposals that demonstrate appropriate leverage of all public and private resources and programs.

d. Proposal and Submission Information

i. Submission of a Proposal

Proposals should be submitted electronically at oea.ncr.OEA.mbx.ffo-submit@mail.mil with a courtesy copy to cyrena.c.eitler.civ@mail.mil. Include “Community Adjustment Planning Assistance in Response to Siting of Energy Projects” on the subject line of the message and request delivery/read confirmation to ensure receipt.

Proposals may also be mailed or hand-delivered to: Director, Office of Economic Adjustment, 2231 Crystal Drive, Suite 520, Arlington, VA 22202-3711.

ii. Content and Form of Proposal Submission

A proposal from a state on behalf of itself must demonstrate how the proposed grant would support local community adjustment planning and initiatives, and stimulate cooperation between statewide and local adjustment planning efforts. A proposal from a state responding on behalf of a local jurisdiction or jurisdictions must include evidence of support from local officials.

Eligible proposals from respondents may include: (1) Analysis and dissemination of information; (2) timely consultation and cooperation among DoD, energy developers, and state and local governments; (3) coordinated interagency and intergovernmental assistance; (4) cost-effective strategies and action plans; (5) effective cooperation and involvement of the public and private sector; (6) a clearinghouse to exchange information among Federal, state and local efforts; (7) resolution of regulatory issues impeding siting of compatible energy projects; and (8) support innovative approaches.

Eligible activities may include (but are not limited to): staffing, operating, and administrative costs for an organization; outreach to industry and other interests; geospatial information system mapping; model ordinances; and siting or permitting processes or procedures that could include DoD Siting Clearinghouse mitigation agreements as stipulations for local siting approvals or certificates of necessity and convenience.

Proposals will be accepted as received on a continuing basis commencing on the date of this publication and processed when deemed to be a final, complete proposal. Each proposal shall consist of no more than ten (10) single-sided pages exclusive of cover sheet and/or transmittal letter, typed in a minimum 11-point common typeface, with no less than 1” margins, exclusive of appendices, attachments, and cover sheet and/or transmittal letter, and must include the following information:

(a) Point of Contact: Name, Title, phone number, email address, and organization address of the respondent's primary point of contact;

(b) Potential Energy Development: A description of the potential energy project development within the area of DoD's test, training and military operations;

(c) Project Description: A description of the proposed project, specifically

(i) How the project can promote compatible siting of energy projects, including how the project could prevent adverse impacts to DoD's test, training and military operations from radar interference from utility-scale wind turbines; low level flight obstructions associated with tall structures such as solar power tower and wind turbine projects; electromagnetic interference from high voltage electrical transmission lines; and glint and glare impacts to flight operations associated with solar photovoltaic arrays or power tower projects near military airfields;

(ii) How the study area and DoD's test, training, and military operations are defined;

(iii) How the project will capitalize on existing strengths (e.g., infrastructure, institutions, capital, etc.) within the affected area; and

(iv) How the project would be integrated with existing/ongoing efforts to site, permit and construct energy projects.

(d) Project Parties: A description of the partner jurisdictions, agencies, organizations, energy industry representatives, and their roles and responsibilities to carry out the proposed project. Letters of support may be included as attachment and will not count against the ten-page limit;

(e) Local Military Involvement: A description of the role of the installation(s) in the study;

(f) Grant Funds and Other Sources of Funds: A summary of local needs, including need for Federal funding; an overview of all State and local funding sources, including the funds requested under this notice; financial commitments for other Federal and non-Federal funds needed to undertake the project, to include acknowledgment of the requirement to provide a minimum of ten percent (10%) of the funding from non-Federal sources; a description of any other Federal funding for which the respondent has applied, or intends to apply to support this effort; and a statement detailing how the proposal is not duplicative of other available Federal funding;

(g) Project Schedule: A sufficiently detailed project schedule, including milestones;

(h) Performance Milestones: A description of milestones to be tracked and evaluated over the course of the project to gauge performance of the project;

(i) Grants Management: Evidence of the respondent's ability and authority to manage Federal grant funds;

(j) Submitting Official: Documentation that the Submitting Official is authorized by the respondent to submit a proposal and subsequently apply for assistance.

The proposal should be emailed to the account identified in section II.d, and in Microsoft Word or Adobe Acrobat PDF format. OEA reserves the right to ask any respondent to supplement the information in its proposal, but expects the proposal to be complete upon submission. To the extent practicable, OEA encourages respondents to provide data and evidence of all project merits in a form that is publicly available and verifiable.

iii. Unique Entity Identifier and System for Award Management (SAM)

Each respondent is required to: (a) Provide a valid Dun and Bradstreet Universal Numbering System (DUNS) number; (b) be registered in the System for Award Management (SAM) before submitting its application; and (c) continue to maintain an active SAM registration with current information at all times during which it has an active Federal award or an application or plan under consideration by a Federal awarding agency. OEA may not make a Federal award to a respondent until the respondent has complied with all applicable unique entity identifier and SAM requirements.

iv. Submission Dates and Times

Proposals will be considered on a continuing basis, subject to available appropriations, commencing on the date of publication of this notice. The end date for this program has not yet been determined. OEA will evaluate all proposals and provide a response to each respondent via email within 30 business days of OEA's receipt of a final, complete grant proposal.

v. Funding Restrictions

The following are unallowable activities under this grant program:

• Construction;

• Proposed activities for grants under this program should not duplicate nor replicate activities otherwise eligible for or funded through other Federal programs; and

• International travel.

OEA reserves the right to decline to fund pre-Federal award costs. Final awards may include pre-Federal award costs at the discretion of OEA; however, this must be specifically requested in the grantee's final application.

vi. Other Submission Requirements

All respondents will submit all proposal materials electronically as an emailed attachment in Microsoft Word or Adobe Acrobat PDF format.

e. Application Review Information

i. Selection Criteria

Upon validating respondent eligibility and the potential for siting of energy projects that may impair the operational utility of the installation, including test and training ranges and associated military airspace, OEA will consider each of the following equally-balanced factors as a basis to invite formal grant applications:

(a) An appropriate and clear project design to address the need, problem, or issue identified;

(b) Evidence of an effective approach to ensure compatible siting of energy projects to support the continued operational utility of DoD's test, training, and military operations;

(c) The innovative quality of the proposed approach; and

(d) A reasonable proposed budget with a non-Federal match commitment and schedule for completion of the work program specified.

ii. Review and Selection Process

All proposals will be reviewed on their individual merit by a panel of OEA and DoD Siting Clearinghouse staff, all of whom are Federal employees. OEA will also seek the input of other Federal agencies with relevant expertise (e.g., Federal Aviation Administration and Department of Energy) in the evaluation of proposals as necessary. OEA will notify the respondent within thirty (30) days of receipt of a proposal whether their proposal was successful. The successful respondent will then be instructed to submit an application through OEA's grants management system, eGrants. OEA will assign a Project Manager to advise and assist successful respondents in the preparation of the application. Grant applications will be reviewed for their completeness and accuracy and a grant award notification will be issued, to the extent possible, within seven (7) business days from its receipt.

Unsuccessful respondents will be notified that their proposal was not selected for further action and funding, and may request a debriefing on their submitted proposal. When applicable, OEA may include information about other applicable federal grant programs in this communication. Requests for debriefing must be submitted in writing within 3 calendar days of notification of an unsuccessful proposal.

OEA is committed to conducting a transparent financial assistance award process and publicizing information about funding decisions. Respondents are advised that their respective applications and information related to their review and evaluation may be shared publicly. Any proprietary information must be identified as such in the proposal and application. In the event of a grant award, information about project progress and related results may also be made publicly available.

f. Federal Award Adminstration Information

i. Federal Award Notices

In the event a grant is ultimately awarded, the successful respondent (Grantee) will receive a notice of award in the form of a Grant Agreement, signed by the Director, OEA (Grantor), on behalf of DoD. The Grant Agreement will be transmitted electronically or, if necessary, by U.S. Mail.

ii. Administrative and National Policy Requirements

Any grant awarded under this program will be governed by the provisions of the OMB circulars applicable to financial assistance and DoD's implementing regulations in place at the time of the award. A Grantee receiving funds under this opportunity and any consultant or pass-thru entity operating under the terms of a grant shall comply with all Federal, State, and local laws applicable to its activities. Federal regulations that will apply to an OEA grant include administrative requirements and provisions governing allowable costs as stated in:

• 2 CFR part 200, “Uniform Administrative Requirements, Cost Principles, and Audit Requirements for Federal Awards”;

• 2 CFR part 1103, “Interim Grants and Cooperative Agreements Implementation of Guidance in 2 CFR part 200, “Uniform Administrative Requirements, Cost Principles, And Audit Requirements for Federal Awards”;

• 2 CFR part 25, “Universal Identifier and System for Award Management”;

• 2 CFR part 170, “Reporting Subaward and Executive Compensation Information”;

• 2 CFR part 180, OMB Guidelines to Agencies on Government-wide Debarment and Suspension (Nonprocurement), as implemented by DoD in 2 CFR part 1125, Department of Defense Nonprocurement Debarment and Suspension; and

• 32 CFR part 28, “New Restrictions on Lobbying”.

iii. Reporting

OEA requires periodic performance reports, an interim financial report for each 12 months a grant is active, and one final performance report for any grant. The performance reports will contain information on the following:

(a) A comparison of actual accomplishments to the objectives established for the period;

(b) reasons for slippage if established objectives were not met;

(c) additional pertinent information when appropriate;

(d) a comparison of actual and projected quarterly expenditures in the grant; and,

(e) the amount of Federal cash on hand at the beginning and end of the reporting period.

The final performance report must contain a summary of activities for the entire grant period. All required deliverables should be submitted with the final performance report.

The final SF 425, “Federal Financial Report,” must be submitted to OEA within 90 days after the end of the grant.

Any grant funds actually advanced and not needed for grant purposes shall be returned immediately to OEA. Upon award, OEA will provide include a schedule for reporting periods and report due dates in the Grant Agreement.

III. Federal Awarding Agency Contacts

For further information, to answer questions, or for help with problems, contact: Ms. Cyrena Chiles Eitler, Compatible Use Program Director, Office of Economic Adjustment, 2231 Crystal Drive, Suite 520, Arlington, VA 22202-3711. Office: (703) 697-2078. Email: cyrena.c.eitler.civ@mail.mil.

The OEA homepage address is: http://www.oea.gov.

IV. Other Information

a. Grant Award Determination

Selection of an organization under this FFO does not constitute approval of a grant for the proposed project as submitted. Before any funds are awarded, OEA may enter into negotiations about such items as program components, staffing and funding levels, and administrative systems in place to support implementation of the award. The amount of available funding may require the final award amount to be less than that originally requested by the respondent. If the negotiations do not result in a mutually acceptable submission, OEA reserves the right to terminate the negotiations and decline to fund an application. OEA further reserves the right not to fund any proposal received under this FFO.

In the event OEA approves an amount that is less than the amount requested, the respondent will be required to modify its grant application to conform to the reduced amount before execution of the grant agreement. OEA reserves the right to reduce or withdraw the award if acceptable modifications are not submitted by the respondent within 15 working days from the date the request for modification is made. Any modifications must be within the scope of the original application and approved by both the Grantee and OEA. OEA reserves the right to cancel any award for non-performance.

b. No Obligation for Future Funding

Amendment or renewal of an award to increase funding or to extend the period of performance is at the discretion of OEA. If a respondent is awarded funding under this FFO, no other federal agencies are under any obligation to provide any additional future funding in connection with that award or to make any future award(s).

c. Intellectual Property Rights

In the event of a grant award, the Grantee may copyright any work that is subject to copyright and was developed, or for which ownership was purchased, under an award. The Federal awarding agencies reserve a royalty-free, nonexclusive and irrevocable right to reproduce, publish, or otherwise use the work for Federal purposes, and to authorize others to do so. Such uses include, but are not limited to, the right to modify and distribute such products worldwide by any means, electronically or otherwise. The Grantee may not use Federal funds to pay any royalty or license fee for use of a copyrighted work, or the cost of acquiring by purchase a copyright in a work, where the Department has a license or rights of free use in such work. If revenues are generated through selling products developed with grant funds, including intellectual property, these revenues are program income and shall be added to the grant and must be expended for allowable grant activities.

Dated: March 31, 2015.
Aaron Siegel,
Alternate OSD Federal Register Liaison Officer, Department of Defense.

[FR Doc. 2015-07707 Filed 4-2-15; 8:45 am]

BILLING CODE 5001-06-P